FEDERAL ELECTION COMMISSION

Sunshine Act Meeting

AGENCY: Federal Election Commission.

Special Executive Session

Date and Time: Tuesday, March 14, 2006 at 10 a.m.

Place: 999 E Street, NW., Washington, DC.

Status: This meeting was closed to the public pursuant to 11 CFR 2.4(b)(1).

Date and Time: Thursday, March 23, 2006 at 10 a.m.

Place: 999 E Street, NW., Washington, DC (Ninth Floor).

Status: This meeting will be open to the public.

Items To Be Discussed

Correction and Approval of Minutes.

Draft Advisory Opinion 2006-03: Whirlpool Corporation Political Action Committee by Sean C. Mackay, Treasurer.

Routine Administrative Matters.

Person To Contact for Information: Robert W. Biersack, Press Officer, Telephone: (202) 694-1220.

Mary W. Dove,
Secretary of the Commission.

[FR Doc. 06-2663 Filed 3-15-06; 2:56 p.m.]

BILLING CODE 6715-01-M